DEPARTMENT OF EDUCATION

Applications for New Awards; Education Research and Special Education Research Grant Programs

AGENCY: Institute of Education Sciences, Department of Education.

ACTION: Notice.

SUMMARY: The Department of Education (Department) is issuing a notice inviting applications for new awards for fiscal year (FY) 2020 for the Education Research and Special Education Research Grant Programs, Catalog of Federal Domestic Assistance (CFDA) numbers 84.305A, 84.305B, 84.305C, 84.305D, 84.305R, 84.324A, 84.324B, and 84.324R. This notice relates to the approved information collection under OMB control number 4040-0001.

DATES: The dates when applications are available and the deadlines for transmittal of applications invited under this notice are indicated in the chart at the end of this notice and in the Requests for Applications (RFAs) that are posted at the following websites: https://ies.ed.gov/funding, www.ed.gov/programs/edresearch/index.html, and www.ed.gov/programs/specialedresearch/index.html.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: The contact person associated with a particular research competition is listed in the chart at the end of this notice, as well as in the relevant RFA and application package.

If you use a telecommunications device for the deaf (TDD) or a text telephone (TTY), call the Federal Relay Service (FRS), toll free, at 1-800-877-8339.

SUPPLEMENTARY INFORMATION:

Full Text of Announcement

I. Funding Opportunity Description

Purpose of Program: In awarding these grants, the Institute of Education Sciences (Institute) intends to provide national leadership in expanding knowledge and understanding of (1) developmental and school readiness outcomes for infants and toddlers with or at risk for a disability, (2) education outcomes for all learners from early childhood education through postsecondary and adult education, and (3) employment and wage outcomes when relevant (such as for those engaged in career and technical, postsecondary, or adult education). The Institute's research grant programs are designed to provide interested individuals and the general public with reliable and valid information about education practices that support learning and improve academic achievement and access to education opportunities for all learners. These interested individuals include parents, educators, learners, researchers, and policymakers. In carrying out its grant programs, the Institute provides support for programs of research in areas of demonstrated national need.

Competitions in This Notice: The Institute will conduct eight research competitions in FY 2020 through two of its centers:

The Institute's National Center for Education Research (NCER) will hold a total of five competitions—one competition in each of the following areas: Education research; education research training; education research and development centers; statistical and research methodology in education; and systematic replication in education.

The Institute's National Center for Special Education Research (NCSER) will hold a total of three competitions—one competition in each of the following areas: Special education research; special education research training, and systematic replication in special education.

NCER Competitions

The Education Research Competition. Under this competition, NCER will consider only applications that address one of the following topics:

• Career and Technical Education.

• Cognition and Student Learning.

• Early Learning Programs and Policies.

• Education Technology.

• Effective Instruction.

• English Learners.

• Improving Education Systems.

• Postsecondary and Adult Education.

• Reading and Writing.

• Science, Technology, Engineering, and Mathematics (STEM) Education.

• Social and Behavioral Context for Academic Learning.

The Research Training Programs in the Education Sciences Competition. Under this competition, NCER will consider only applications that address one of the following topics:

• Predoctoral Interdisciplinary Research Training Program in the Education Sciences.

• Postdoctoral Research Training Program in the Education Sciences.

• Methods Training for Education Researchers.

The Education Research and Development Centers Competition. Under this competition, NCER will consider only applications that address one of the following topics:

• Improving Opportunities and Achievement for English Learners in Secondary School Settings.

• Improving Teaching and Learning in Postsecondary Institutions.

• Improving Access, Instruction, and Outcomes in Gifted Education.

The Statistical and Research Methodology in Education Competition. Under this competition, NCER will consider only applications that address one of the following topics:

• Statistical and Research Methodology Grants.

• Early Career Statistical and Research Methodology Grants.

Research Grants Focused on Systematic Replication. Under this competition, NCER will consider only applications that address identifying what works in education through systematic replication. The list of interventions identified for replication is available on the IES website at: https://ies.ed.gov/director/remarks/4-15-2019.asp.

NCSER Competitions

The Special Education Research Competition. Under this competition, NCSER will consider only applications that address one of the following topics:

• Autism Spectrum Disorders.

• Cognition and Student Learning in Special Education.

• Early Intervention and Early Learning in Special Education.

• Families of Children with Disabilities.

• Professional Development for Educators and School-Based Service Providers.

• Reading, Writing, and Language Development.

• Science, Technology, Engineering, and Mathematics (STEM) Education.

• Social and Behavioral Outcomes to Support Learning.

• Special Education Policy, Finance, and Systems.

• Technology for Special Education.

• Transition Outcomes for Secondary Students with Disabilities.

• Special Topics, which include—

• Career and Technical Education for Students with Disabilities.

• English Learners with Disabilities.

• Systems-Involved Students with Disabilities.

The Research Training Programs in Special Education Competition. Under this competition, NCSER will consider only applications that address one of the following three topics:

• Postdoctoral Research Training Program in Special Education and Early Intervention.

• Early Career Development and Mentoring.

• Methods Training Using Single Case Designs.

Research Grants Focused on Systematic Replication. Under this competition, NCSER will consider only applications that address identifying what works in special education through systematic replication. The list of interventions identified for replication is available on the IES website at: https://ies.ed.gov/director/remarks/4-15-2019.asp.

Exemption from Proposed Rulemaking: Under section 191 of the Education Sciences Reform Act, 20 U.S.C. 9581, IES is not subject to section 437(d) of the General Education Provisions Act, 20 U.S.C. 1232(d), and is therefore not required to offer interested parties the opportunity to comment on priorities, selection criteria, definitions, and requirements.

Program Authority: 20 U.S.C. 9501 et seq.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, and 75.708. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply for this competition.

II. Award Information

Types of Awards: Discretionary grants and cooperative agreements.

Fiscal Information: Although Congress has not yet enacted an appropriation for FY 2020, the Institute is inviting applications for these competitions now so that applicants can have adequate time to prepare their applications. The actual level of funding, if any, depends on final congressional action. The Department may announce additional competitions later in 2019. The actual award of grants will depend on the availability of funds.

The Education Research and Development Center for Improving Access, Instruction and Outcomes in Gifted Education would be supported with funding authorized through the Jacob K. Javits Gifted and Talented Students Education Act. The Administration's budget request for FY 2020 does not include funds for the Javits program. However, we are inviting applications to allow enough time to complete the grant process if Congress appropriates funds for this program.

Estimated Range of Awards: See chart at the end of this notice.

Estimated Size and Number of Awards: The size of the awards will depend on the scope of the projects proposed. The number of awards made under each competition will depend on the quality of the applications received for that competition, the availability of funds, and the following limits on awards for specific competitions and topics set by the Institute. See the chart at the end of this notice for additional information.

The Institute may waive any of the following limits on awards for a specific competition or topic in the special case that the peer review process results in a tie between two or more grant applications, making it impossible to adhere to the limits without funding only some of the equally ranked applications. In that case, the Institute may make a larger number of awards to include all applications of the same rank.

For NCER's Education Research and Development Center competition, we intend to fund one grant under each of the three topics.

For NCER's Research Training Programs in the Education Sciences competition, we intend to fund five grants under the Predoctoral Interdisciplinary Research Training Program in the Education Sciences topic. However, should funding be available, we may consider making additional awards to high-quality applications that remain unfunded after five awards are made.

For NCSER's Research Training Programs in Special Education competition, we intend to fund no more than one grant for Methods Training Using Single Case Designs.

Contingent on the availability of funds and the quality of applications, we may make additional awards in FY 2021 from the list of highly-rated unfunded applications from the FY 2020 competitions.

Note: The Department is not bound by any estimates in this notice.

Project Period: See chart at the end of this notice.

III. Eligibility Information

1. Eligible Applicants: Applicants that have the ability and capacity to conduct scientifically valid research are eligible to apply. Eligible applicants include, but are not limited to, nonprofit and for-profit organizations and public and private agencies and institutions of higher education, such as colleges and universities.

2. Cost Sharing or Matching: These programs do not require cost sharing or matching.

3. Subgrantees: Under 34 CFR 75.708(b) and (c) a grantee under this competition may award subgrants—to directly carry out project activities described in its application—to the following types of entities: Nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Other Information: Information regarding program and application requirements for the competitions will be contained in the NCER and NCSER RFAs, which will be available on or before June 24, 2019, on the Institute's website at: https://ies.ed.gov/funding/. The dates on which the application packages for these competitions will be available are indicated in the chart at the end of this notice.

3. Content and Form of Application Submission: Requirements concerning the content of an application are contained in the RFA for the specific competition. The forms that must be submitted are in the application package for the specific competition.

4. Submission Dates and Times: The deadline date for transmittal of applications for each competition is indicated in the chart at the end of this notice and in the RFAs for the competitions.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, the Institute uses selection criteria based on a peer-review process that has been approved by the National Board for Education Sciences. The Peer Review Procedures for Grant Applications can be found on the Institute's website at https://ies.ed.gov/director/sro/peer_review/application_review.asp.

For the 84.305A, 84.305D, 84.324A, 84.305R, and 84.324R competitions, peer reviewers will be asked to evaluate the significance of the application, the quality of the research plan, the qualifications and experience of the personnel, and the resources of the applicant to support the proposed activities. These criteria are described in greater detail in the RFAs.

For the 84.305B and 84.324B competitions, peer reviewers for the predoctoral, postdoctoral, and methods training programs will be asked to evaluate the significance of the application, the quality of the research training plan, the qualifications and experience of the personnel, and the resources of the applicant to support the proposed activities. Peer reviewers for the early career development and mentoring program will be asked to evaluate the significance of the application, the quality of the research plan, the quality of the career development plan, the qualifications and experience of the personnel, and the resources of the applicant to support the proposed activities. These criteria are described in greater detail in the RFA.

For the 84.305C competition, peer reviewers will be asked to evaluate the significance of the application, the quality of the research plan for the focused program of research, the quality of the plans for other center activities, the quality of the management and institutional resources, and the qualifications and experience of the personnel. These criteria are described in greater detail in the RFA.

For all of the Institute's competitions, applications should include budgets no higher than the relevant maximum award as set out in the relevant RFA. The Institute will not make an award exceeding the maximum award amount as set out in the relevant RFA.

2. Review and Selection Process: We remind potential applicants that in reviewing applications in any discretionary grant competition, the Institute may consider, under 34 CFR 75.217(d)(3), the past performance of the applicant in carrying out a previous award, such as the applicant's use of funds, achievement of project objectives, and compliance with grant conditions. The Institute may also consider whether the applicant failed to submit a timely performance report or submitted a report of unacceptable quality.

In addition, in making a competitive grant award, the Institute also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under these competitions, the Department conducts a review of the risks posed by applicants. Under 2 CFR 3474.10, the Institute may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual two-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Institute. If you receive a multiyear award, you must submit an annual performance report that provides the most current performance and financial expenditure information as directed by the Institute under 34 CFR 75.118. The Institute may also require more frequent performance reports under 34 CFR 75.720(c). For specific requirements on reporting, please go to www.ed.gov/fund/grant/apply/appforms/appforms.html.

5. Performance Measures: To evaluate the overall success of its education research and special education research grant programs, the Institute annually assesses the percentage of projects that result in peer-reviewed publications and the number of Institute-supported interventions with evidence of efficacy in improving learner education outcomes. In addition, NCSER annually assesses the number of newly developed or modified interventions with evidence of promise for improving learner education outcomes. School readiness outcomes include pre-reading, reading, pre-writing, early mathematics, early science, and social-emotional skills that prepare young children for school. Student academic outcomes include learning and achievement in academic content areas, such as reading, writing, math, and science, as well as outcomes that reflect students' successful progression through the education system, such as course and grade completion; high school graduation; and postsecondary enrollment, progress, and completion. Social and behavioral competencies include social and emotional skills, attitudes, and behaviors that are important to academic and post-academic success. Additional education outcomes for students with or at risk of a disability (as defined in the relevant RFA) include developmental outcomes for infants and toddlers (birth to age three) pertaining to cognitive, communicative, linguistic, social, emotional, adaptive, functional, or physical development; and developmental and functional outcomes that improve education outcomes, transition to employment, independent living, and postsecondary education for students with disabilities.

6. Continuation Awards: In making a continuation award under 34 CFR 75.253, the Institute considers, among other things: Whether a grantee has made substantial progress in achieving the goals and objectives of the project; whether the grantee has expended funds in a manner that is consistent with its approved application and budget; and, if the Institute has established performance measurement requirements, whether the grantee has met the performance targets in the grantee's approved application.

In making a continuation award, the Institute also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the RFA in an accessible format (e.g., braille, large print, audiotape, or compact disc) on request to the appropriate program contact person listed in the chart at the end of this notice.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

CFDA No. and name | Application package available | Deadline for transmittal of applications | Estimated range of awards * | Project period | For further information contact
National Center for Education Research (NCER)
84.305A Education Research Career and Technical Education | 7/11/19 | 8/29/19 | $100,000 to $660,000 | Up to 5 years | Erin Higgins, Erin.Higgins@ed.gov.
Cognition and Student Learning
Early Learning Programs and Policies
Education Technology
Effective Instruction
English Learners
Improving Education Systems
Postsecondary and Adult Education
Reading and Writing
Science, Technology, Engineering, and Mathematics Education
Social and Behavioral Context for Academic Learning
84.305B Research Training Programs in the Education Sciences Predoctoral Interdisciplinary Research Training Program in the Education Sciences | 7/11/19 | 8/29/19 | $100,000 to $920,000 | Up to 5 years | Katina Stapleton, Katina.Stapleton@ed.gov.
Postdoctoral Research Training Program in the Education Sciences
Methods Training for Education Researchers
84.305C Education Research and Development Centers Improving Opportunities and Achievement for English Learners in Secondary School Settings | 7/11/19 | 9/26/19 | $1,000,000 to $2,000,000 | Up to 5 years | Corinne Alfeld, Corinne.Alfeld,@ed.gov.
Improving Teaching and Learning in Postsecondary Institutions
Improving Access, Instruction and Outcomes in Gifted Education.
84.305D Statistical and Research Methodology in Education Statistical and Research Methodology Grants | 7/11/19 | 8/29/19 | $40,000 to $300,000 | Up to 3 years | Phill Gagne, Phill.Gagne@ed.gov.
Early Career Statistical and Research Methodology Grants
84.305R Research Grants Focused on Systematic Replication | 7/11/19 | 8/29/19 | $400,000 to $800,000 | Up to 5 years | Christina Chhin, Christina.Chhin@ed.gov.
National Center for Special Education Research (NCSER)
84.324A Special Education Research Autism Spectrum Disorders | 7/11/19 | 8/29/19 | $100,000 to $660,000 | Up to 5 years | Sarah Brasiel, Sarah.Brasiel@ed.gov.
Cognition and Student Learning in Special Education
Early Intervention and Early Learning in Special Education
Families of Children with Disabilities
Professional Development for Educators and School-Based Service Providers
Reading, Writing, and Language Development
Science, Technology, Engineering, and Mathematics Education
Social and Behavioral Outcomes to Support Learning
Special Education Policy, Finance, and Systems
Technology for Special Education
Transition Outcomes for Secondary Students with Disabilities
Special Topics
○ Career and Technical Education for Students with Disabilities
○ English Learners with Disabilities
○ Systems-Involved Students with Disabilities
84.324B Research Training Programs in Special Education Postdoctoral Research Training Program in Special Education and Early Intervention | 7/11/19 | 8/29/19 | $100,000 to $225,000 | Up to 5 years | Katherine Taylor, Katherine.Taylor@ed.gov.
Early Career Development and Mentoring
Methods Training Using Single Case Designs
84.324R Research Grants Focused on Systematic Replication | 7/11/19 | 8/29/19 | $400,000 to $800,000 | Up to 5 years | Katherine Taylor, Katherine.Taylor@ed.gov.
* These estimates are annual amounts.
Note: The Department is not bound by any estimates in this notice.
Note: If you use a TDD or a TTY, call the FRS, toll free, at 1-800-877-8339.

[FR Doc. 2019-13041 Filed 6-18-19; 8:45 am]

BILLING CODE 4000-01-P